SMALL BUSINESS ADMINISTRATION

[Declaration of Disaster #3404]

Commonwealth of Kentucky; Amendment #1

In accordance with information received from the Federal Emergency Management Agency, dated April 26, 2002, the above numbered declaration is hereby amended to include Floyd, Johnson, Knott, Magoffin, Martin and Pike Counties in the Commonwealth of Kentucky as disaster areas due to damages caused by severe storms and flooding occurring on March 17 through March 21, 2002.

In addition, applications for economic injury loans from small businesses located in the following contiguous counties may be filed until the specified date at the previously designated location: Buchanan and Dickenson Counties in the Commonwealth of Virginia; and Mingo County in the State of West Virginia. All other counties contiguous to the above-named primary counties have been previously declared.

All other information remains the same, i.e., the deadline for filing applications for physical damage is June 3, 2002, and for loans for economic injury the deadline is January 6, 2003.

(Catalog of Federal Domestic Assistance Program Nos. 59002 and 59008)
Dated: April 29, 2002.
Herbert L. Mitchell,
Associate Administrator for Disaster Assistance.

[FR Doc. 02-11119 Filed 5-3-02; 8:45 am]

BILLING CODE 8025-01-P